DEPARTMENT OF ENERGY

Federal Energy Regulatory Commission

[Docket No. EF02-5181-000, et al.]

United States Department of Energy, et al.; Electric Rate and Corporate Regulation Filings

June 14, 2002.

The following filings have been made with the Commission. The filings are listed in ascending order within each docket classification.

1. United States Department of Energy—Western Area Power Administration

[Docket No. EF02-5181-000]

Take notice that on June 3, 2002, the Secretary of the Department of Energy by Rate Order No. WAPA-97, did confirm and approve on an interim basis, to be effective on July 1, 2002, the Western Area Power Administration's (Western) Rate Schedule L-AS4 for Energy Imbalance Service. The existing Rate Schedule L-AS4 is terminated June 30, 2002, and replaced by this adjusted rate order.

The rate in Rate Schedule L-AS4 will be in effect pending the Federal Energy Regulatory Commission's (Commission) approval of these or of substitute rates on a final basis, ending September 30, 2002.

Comment Date: June 24, 2002.

2. Immingham CHP LLP

[Docket No. EG02-146-000]

Take notice that on June 10, 2002, Immingham CHP LLP, Incorporated in England and Wales, (the Applicant) filed with the Federal Energy Regulatory Commission (Commission) an application for determination of exempt wholesale generator (EWG) status pursuant to Part 365 of the Commission's regulations.

The Applicant will be engaged directly or indirectly, through an affiliate as defined in section 2(a)(11)(B) of the Public Utility Holding Company Act of 1935 (PUHCA) in owning and operating eligible facilities constructed In England.

Comment Date: July 5, 2002.

3. NedPower Mount Storm LLC

[Docket No. EG02-147-000]

Take notice that on June 12, 2002, NedPower Mount Storm LLC (Applicant) filed with the Federal Energy Regulatory Commission an application for determination of exempt wholesale generator status pursuant to Part 365 (18 CFR 365) of the Commission's regulations. Applicant, a Delaware limited liability company, proposes to own and operate an up to 300 MW wind energy electric generating plant located in Grant County, West Virginia.

Comment Date: July 5, 2002.

4. Northern Iowa Windpower II LLC

[Docket No. EG02-148-000]

Take notice that on June 12, 2002, Northern Iowa Windpower II LLC (Northern Iowa) filed with the Federal Energy Regulatory Commission an Application for Determination of Exempt Wholesale Generator Status pursuant to part 365 of the Commission's regulations.

Northern Iowa is developing a wind-powered eligible facility with a capacity of 100.5 megawatts, powered by approximately 67 wind turbine generators, which will be located in Worth County, Iowa.

Comment Date: July 5, 2002.

5. Dominion Davidson, Inc.

[Docket No. EG02-149-000]

Take notice that on June 7, 2002, Dominion Davidson, Inc. (Davidson) filed with the Federal Energy Regulatory Commission an application for determination of exempt wholesale generator status pursuant to Part 365 of the Commission's regulations.

Davidson, a Delaware corporation, is a wholly owned subsidiary of Dominion Energy, Inc., a Virginia corporation, which in turn is a wholly owned subsidiary of Dominion Resources, Inc., also a Virginia corporation. Davidson will be exclusively engaged in the business of owning, operating and selling electricity exclusively at wholesale from an approximately 570 MW electric generating facility located in Reedy Creek Township, Davidson County, North Carolina. The facility will be interconnected with transmission facilities of Duke Electric Transmission, a division of Duke Energy Corporation.

Comment Date: July 5, 2002.

6. LG&E Energy Marketing, Inc., Louisville Gas & Electric Company, & Kentucky Utilities Company, WKE Station 2, Inc., Western Kentucky Energy Corporation

[Docket Nos. ER94-1188-033, ER98-4540-002, ER99-1623-001, ER98-1278-008, and ER98-1279-004]

Take notice that on May 30, 2002, LG&E Energy Marketing, Inc., Louisville Gas & Electric Company, Kentucky Utilities Company, WKE Station 2, Inc., and Western Kentucky Energy Corporation tendered for filing a triennial market power analysis in compliance with: LG&E Power Marketing, Inc., 68 FERC ¶ 61,247 (1994); Louisville Gas & Elec. Co., 85 FERC ¶ 61,215 (1998); LG&E Operating Cos., Docket No. ER99-1623-000, Letter Order, Jun. 4, 1999; WKE Station Two, Inc., 82 FERC ¶ 61,178 (1998); and WKE Station Two, Inc., Docket No. ER99-1755-000, Letter Order, Mar. 16, 1999.

Comment Date: June 24, 2002.

7. Midwest Independent Transmission, System Operator, Inc., Alliant Energy Corporate, Services, Inc., et al.

[Docket No. ER02-438-000]

Take notice that on June 11, 2002, the Midwest ISO Transmission Owners submitted an errata to certain of the tariff sheets filed on November 30, 2001 in this proceeding, as accepted by the Commission in its January 29, 2002 order herein, solely for the purpose of correcting the page, volume, or schedule references on such sheets. The Midwest ISO Transmission Owners state that no substantive changes are being made, and no change is sought in the previously established effective date of these sheets (which was triggered by the effectiveness of the Midwest ISO Tariff).

Comment Date: July 2, 2002.

8. Central Maine Power Company

[Docket No. ER02-2067-000]

Take notice that on June 11, 2002, Central Maine Power Company (CMP), tendered for filing a cancellation notice for the Unexecuted Interconnection Agreement and Unexecuted Transmission Service Agreement with Foss Mill, FERC Electric Tariff, Fifth Revision, No. 3.

CMP states the effective date of August 6, 2002 is given. Notice of the proposed cancellation has been served upon Central Maine Power Company and Maine Public Utilities Commission.

Comment Date: July 2, 2002.

9. Ameren Energy, Inc. on behalf of Union Electric Company d/b/a AmerenUE and Ameren Energy Generating Company

[Docket No. ER02-2069-000]

Take notice that on June 11, 2002, Ameren Energy, Inc. (Ameren Energy), on behalf of Union Electric Company d/b/a AmerenUE and Ameren Energy Generating Company (collectively, the Ameren Parties), pursuant to section 205 of the Federal Power Act, 16 USC 824d, and the market rate authority granted to the Ameren Parties, submitted for filing umbrella power sales service agreements under the Ameren Parties' market rate authorizations entered into with The Cincinnati Gas & Electric Company.

Ameren Energy seeks Commission acceptance of these service agreements effective May 1, 2002. Copies of this filing were served on the public utilities commissions of Illinois and Missouri and the counterparty.

Comment Date: July 2, 2002.

10. Citizens Communications Company

[Docket No. ER02-2070-000]

Take notice that on June 11, 2002, Citizens Communications Company (Citizens) tendered for filing on behalf of itself and Morgan Stanley Capital Group Inc. a Service Agreement for Non-Firm Point-to-Point Transmission Service under the Open Access Transmission Tariff of the Vermont Electric Division of Citizens. Citizens also tendered for filing a revised Attachment E, Index of Point-to-Point Transmission Service Customers, to update the Open Access Transmission Tariff.

Comment Date: July 2, 2002.

11. Central Maine Power Company

[Docket No. ER02-2071-000]

Take notice that on June 11, 2002, Central Maine Power Company (CMP) tendered for filing that effective the 6th day of August, 2002, the Unexecuted Interconnection Agreement and Unexecuted Transmission Service Agreement with Marsh Stream, FERC Electric Tariff, Fifth Revision, No. 3, is to be cancelled.

Notice of the proposed cancellation has been served upon the following:

Stephanie McNeal, Regulatory Services Department, Transmission Services Department, Central Maine Power Company, 83 Edison Dr, Augusta, ME 04336-0002

Velma Brown, Transmission Services Department, Central Maine Power Company, 83 Edison Drive, Augusta, ME 04336-0002.

Arthur Taylor, Chairman, Penobscot River Coalition, President, FISH, 10 High Hill Drive, Lincoln, ME 04457.

John Danyew, Transmission Services Department, Central Maine Power Company, 83 Edison Dr., Augusta, ME 04336-0002.

Dennis Keschl, Maine Public Utilities Commission, 18 State House Station, 242 State Street, Augusta, ME 04333-0001.

Comment Date: July 2, 2002.

12. Entergy Services, Inc.

[Docket No. ER02-2072-000]

Take notice that on June 11, 2002, Entergy Services, Inc., on behalf of Entergy Gulf States, Inc., tendered for filing a unilaterally executed Interconnection and Operating Agreement with Louisiana Generating LLC (LaGen), and a Generator Imbalance Agreement with LaGen. Both tendered agreements address the interconnected operations of LaGen's existing Big Cajun II facility.

Comment Date: July 2, 2002.

13. Entergy Services, Inc.

[Docket No. ER02-2073-000]

Take notice that on June 11, 2002, Entergy Services, Inc., on behalf of Entergy Gulf States, Inc., tendered for filing a unilaterally executed Interconnection and Operating Agreement with Louisiana Generating LLC (LaGen), and a Generator Imbalance Agreement with LaGen. Both tendered agreements address the interconnected operations of LaGen's existing Big Cajun I facility.

Comment Date: July 2, 2002.

14. Lyon Rural Electric Cooperative

[Docket No. ES02-42-000]

Take notice that on June 5, 2002, Lyon Rural Electric Cooperative (Lyon) filed an application pursuant to section 204 of the Federal Power Act seeking authorization to borrow money under a long-term loan agreement in the form of secured promissory notes in an amount not to exceed $2,182,396. Lyon seeks authorization to borrow money under a short-term line of credit agreement in the form of promissory notes in an amount not to exceed $900,000. Lyon requests authorization for the long-term loan agreement and the short-term line of credit for a two-year period commencing July 12, 2002.

Lyon also seeks waiver of the Commission's competitive bidding and negotiated placement requirements at 18 CFR 34.2.

Comment Date: July 5, 2002.

15. Cleco Power LLC

[Docket No. ES02-43-000]

Take notice that on June 4, 2002, Cleco Power LLC submitted an application pursuant to section 204 of the Federal Power Act seeking authorization to issue short-term debt securities in an amount not to exceed $150 million during a two-year period.

Comment Date: July 5, 2002.

16. Indianapolis Power & Light Company

[Docket No. ES02-44-000]

Take notice that on June 6, 2002, Indianapolis Power & Light Company submitted an application pursuant to section 204 of the Federal Power Act seeking authorization to issue, from time to time, no more than $500 million of short-term debt instruments from July 30, 2002, through July 29, 2004.

Comment Date: July 5, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-15581 Filed 6-19-02; 8:45 am]

BILLING CODE 6717-01-P